DEPARTMENT OF AGRICULTURE

Natural Resources Conservation Service

[Docket No. NRCS-2014-0009]

Notice of Proposed Changes to the National Handbook of Conservation Practices for the Natural Resources Conservation Service

AGENCY: Natural Resources Conservation Service (NRCS), USDA.

ACTION: Notice of availability of proposed changes in the NRCS National Handbook of Conservation Practices for public review and comment.

SUMMARY: Notice is hereby given of the intention of NRCS to issue a series of revised conservation practice standards in the National Handbook of Conservation Practices. These standards include: Conservation Cover (Code 327), Conservation Crop Rotation (Code 328), Contour Buffers (Code 332), Cover Crop (Code 340), Cross Wind Trap Strips (Code 589c), Grassed Waterway (Code 412), Groundwater Testing (Code 355), Heavy Use Area Protection (Code 561), Irrigation System, Tailwater Recovery (Code 447), Irrigation Water Management (Code 449), Monitoring Well (Code 353), On-Farm Secondary Containment Facility (Code 319), Roof Runoff Structure (Code 558), Surface Roughening (Code 609), Tree/Shrub Pruning (Code 660), Waste Transfer (Code 634), Water Well Decommissioning (Code 351) and Wildlife Structure (Code 649).

NRCS State Conservationists who choose to adopt these practices for use within their States will incorporate them into section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective August 18, 2014.

Comment Date: Submit comments on or before September 17, 2014. Final versions of these new or revised conservation practice standards will be adopted after the close of the 30-day period and after consideration of all comments.

ADDRESSES: Comments should be submitted, identified by Docket Number NRCS-2014-0009, using any of the following methods:

• Federal eRulemaking Portal: http://www.regulations.gov. Follow the instructions for submitting comments.

• Mail or Hand-Delivery: Public Comments Processing, Attention: Regulatory and Agency Policy Team, Strategic Planning and Accountability, Natural Resources Conservation Service, 5601 Sunnyside Avenue, Building 1-1112D, Beltsville, Maryland 20705.

NRCS will post all comments on http://www.regulations.gov. In general, personal information provided with comments will be posted. If your comment includes your address, phone number, email, or other personal identifying information, your comments, including personal information, may be available to the public. You may ask in your comment that your personal identifying information be withheld from public view, but this cannot be guaranteed.

FOR FURTHER INFORMATION CONTACT: Wayne Bogovich, National Agricultural Engineer, Conservation Engineering Division, Department of Agriculture, Natural Resources Conservation Service, 1400 Independence Avenue SW., Room 6136 South Building, Washington, DC 20250.

Electronic copies of the proposed revised standards are available through http://www.regulations.gov by accessing Docket No. NRCS-2014-0009. Alternatively, copies can be downloaded or printed from the following Web site: http://go.usa.gov/TXye. Requests for paper versions or inquiries may be directed to Emil Horvath, National Practice Standards Review Coordinator, Natural Resources Conservation Service, Central National Technology Support Center, 501 West Felix Street, Fort Worth, Texas 76115.

SUPPLEMENTARY INFORMATION: The amount of the proposed changes varies considerably for each of the conservation practice standards addressed in this notice. To fully understand the proposed changes, individuals are encouraged to compare these changes with each standard's current version as shown at: http://www.nrcs.usda.gov/wps/portal/nrcs/detailfull/national/technical/cp/ncps/?cid=nrcs143026849. To aid in this comparison, following are highlights of some of the proposed revisions to each standard:

Conservation Cover (Code 327)—The purpose to manage pests as the purpose was not appropriate for this standard and was deleted. NRCS resource concerns were associated with each of the conservation practice purposes. Added “beneficial organism habitat” to the pollinator purpose of the practice. Added one new reference: National Agronomy Technical Note 9. Preventing or Mitigating Potential Negative Impacts of Pesticides on Pollinators Using IPM and Other Conservation Practices.

Conservation Crop Rotation (Code 328)—Changed definition slightly from “Growing crops in a planned sequence on the same field” to “A planned sequence of crops grown on the same ground over a period of time (i.e. the rotation).” NRCS resource concerns were associated with each of the conservation practice purposes.

Contour Buffers (Code 332)—NRCS resource concerns were associated with each of the conservation practice purposes. Added an additional practice purpose to reduce transport of nutrients downslope and combined the additional criteria for this purpose with the additional criteria to reduce transport of sediment and other water-borne contaminants downslope. Made minor wording modifications to improve understanding and reduce redundancy in the standard.

Cover Crop (Code 340)—Deleted two purposes (1) promote biological nitrogen fixation and reduce energy use and (2) increase biodiversity as the two purposes are captured in the criteria in the general criteria and the criteria for the other purposes. Edited the criteria to improve clarity and understanding of the standard. Added additional criteria to address the need to terminate cover crops within the NRCS cover Crop Termination Guidelines. Provided additional criteria for haying and grazing cover crops.

Cross Wind Trap Strips (Code 589c)—NRCS resource concerns were associated with each of the conservation practice purposes. Removed the purpose to induce wind-borne sediment deposition as this is covered under the purpose to reduce soil erosion and induce wind-blown sediment deposition. Deleted the purpose to provide food and cover for pollinators and wildlife. In the general criteria for the practice changed the language from using university extension guides to NRCS approved technical references for seeding and establishment.

Grassed Waterway (Code 412)—The agency refined the definition and purposes slightly and modified the criteria to allow the use of state planting guides.

Groundwater Testing (Code 355)—The agency changed the title from “Well Water Testing” to “Groundwater Testing,” modified conditions where practice applies, removed items from criteria, and an item under operation and maintenance.

Heavy Use Area Protection (Code 561)—The agency changed the units of this practice from acres to square feet to better reflect usage. The definition of this practice changed slightly. Criteria for the use of concrete and mulches were modified. Criteria for the use of vegetation and other material as a surface treatment were added. Considerations for animal health and air quality were added.

Irrigation System, Tailwater Recovery (Code 447)—447 was rewritten to use clearer, plain language. Definition and purpose were clarified but not materially changed. Under criteria for storage, two new criteria setting the minimum size of the storage component were added. The plans and specifications section was completely rewritten, and 4 new references were added.

Irrigation Water Management (Code 449)—The Definition, sections of 449 were not changed in this revision from the May 2011 version. The Purpose section was changed to remove the purpose of improving air quality. IWM would not be applied to treat air quality in and of itself. The purpose of the practice to decrease non-point source pollution of surface and groundwater resources was rewritten to read as “a decrease degradation of surface and groundwater resources.” The Conditions Where Practice Applies section was not changed. The Criteria section has been edited for clarity, and the criteria for plant stress monitoring was updated to include current technology. Several new references were added.

Monitoring Well (Code 353)—The agency changed the definition, deleted a purpose, modified conditions where practice applies, changed some criteria, and added considerations.

On-Farm Secondary Containment Facility (Code 319)—The agency created this new conservation practice standard to provide secondary containment of oil and petroleum products used on-farm. The creation of a new standard was recommended in the SPCC Pilot Final report. As noted in the report, producers will continue to request assistance with implementation of secondary containment facilities and as operations change or new operations established, compliance with the EPA SPCC rule will be an ongoing requirement. Natural resource benefits from providing secondary containment of oils include control of excessive release of organics into groundwater and surface waters, and control of excessive suspended sediment and turbidity into surface water.

Roof Runoff Structure (Code 558)—The agency added inventory and assessment information, clarified the language and organization of the standard, added conditions and criteria for capturing roof runoff for other uses, and added considerations.

Surface Roughening (Code 609)—NRCS resource concerns were associated with each of the conservation practice purposes. Revised the condition where the practice applies to stress the practice is “emergency tillage” and not the primary method of erosion control. The general criterion for the random roughness based in the “soil erodibility factor” from the former Wind Erosion Equation was removed as the current technology is now based on the Wind Erosion Prediction System technology.

Tree/Shrub Pruning (Code 660)—The agency added two new purposes, and updated the criteria, considerations, plans and specifications, operation and maintenance, and references sections of Tree/Shrub Pruning (Code 660). The original DEFINITION of Tree/Shrub Pruning was retained. Two PURPOSES were added to address soil quality and energy use. They are, “Maintain or improve soil quality and organic matter content”, and “Reduce energy use.” Other purposes were rephrased for clarity and consistency but their meanings are unchanged. The CRITERIA section on methods and timing for pruning, and minimizing damage to the residual plant, was split into several separate sections and clarified. A restriction on treating cuts, and another on pollarding, was added. Timing to minimize disturbance to wildlife, formerly in Considerations, was moved to this section. A section on “Additional Criteria for Maintaining Health and Vigor” was added; material on pruning to limit insect infestations and plant diseases was moved to this section and expanded to address root pruning. A section on “Additional Criteria to Maintain or Improve Soil Quality” was added, calling for pruning residues to remain on site unless insect or disease considerations prevail. Finally, a section on “Additional Criteria to Reduce Energy Use” was added for situations where alternative methods are available and one is less energy-intensive than others. CONSIDERATIONS: Additional considerations were placed in this section, including those for the effects of pruning on plant health, retaining and treating pruning residues for soil quality, pruning for disease or pest control, and pruning for fire hazard reduction. A reference to NRCS Conservation Practice Standard (CPS) Woody Residue Treatment (Code 384) was included for treatment of pruning residues when needed, and a reference to NRCS Conservation Practice Standard (CPS) Forest Stand Improvement (Code 666) was added for situations where disease or pest control requires cutting or killing entire trees. The PLANS AND SPECIFICATIONS section was expanded to include a list of the minimum information needed to prepare a plan. The OPERATION AND MAINTENANCE section was expanded to include additional requirements for controlling invasive plants. The REFERENCES were updated to include more current information.

Waste Transfer (Code 634)—The agency removed `hauling waste material with equipment or vehicles' from the conditions where this practice is applied and expanded the design criteria information specific for waste transfer pipelines.

Water Well Decommissioning (Code 351)—The agency revised the purposes and criteria sections. Disinfection was moved from criteria to considerations.

Wildlife Structure (Code 649)—This is a new National Conservation Practice Standard with a five-year lifespan. Prior to this new National Conservation Practice Standard, there existed no minimum requirements for applying fish and wildlife structures or retrofitting existing structures as needed to improve management and conservation of fish and wildlife habitats, and to achieve their intended purpose. To address this technical gap, an Interim National Conservation Practice Standard, “Fish and Wildlife Structures” (Code 734) was developed and tested in several states. Ultimately, States recommended conversion of this interim standard to a new National Conservation Practice Standard. “Structures for Wildlife” does not apply to structures benefitting aquatic species. During field testing, NRCS found that most habitat structures for aquatic species (e.g. fish ladders) are adequately addressed in other National Conservation Practice Standards. Also discovered during the testing process, was that the interim standard (Code 734) did not provide for retrofitting existing structures that pose a threat to wildlife. This standard corrects that oversight by providing for retrofitting existing structures, such as the installation of wildlife escape ramps to existing water troughs and retrofitting existing fencing to allow for safe passage by wildlife.

Signed this 6th day of August, 2014, in Washington, DC
Jason A. Weller,
Chief, Natural Resources Conservation Service.

[FR Doc. 2014-19520 Filed 8-15-14; 8:45 am]

BILLING CODE 3410-16-P